DEPARTMENT OF COMMERCE

National Oceanic and Atmospheric Administration

[RTID 0648-XE104]

Pacific Fishery Management Council; Public Meeting

AGENCY: National Marine Fisheries Service (NMFS), National Oceanic and Atmospheric Administration (NOAA), Commerce.

ACTION: Notice of public meeting.

SUMMARY: The Pacific Fishery Management Council (Pacific Council) will convene one webinar meeting of its Groundfish Management Team (GMT) and one webinar meeting of its Groundfish Advisory Subpanel (GAP). The meetings will discuss items on the Pacific Council's September 2024 meeting agenda. These meetings are open to the public.

DATES: The GAP online meeting will be held on Thursday, September 5, 2024, from 12 p.m. to 3 p.m., Pacific time. The GMT meeting will be held on Tuesday, September 10, 2024, from 9 a.m. to 12 p.m., Pacific time. The scheduled ending times for these meetings are an estimate. Each meeting will adjourn when business for the day is completed.

ADDRESSES: Both meetings will be held online. Specific meeting information, including directions on how to attend the meeting and system requirements will be provided in the meeting announcements on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Todd Phillips, Staff Officer, Pacific Council; todd.phillips@noaa.gov, telephone: (503) 820-2426.

SUPPLEMENTARY INFORMATION: The primary purpose of the GAP webinar held on September 5, 2024 and the GMT webinar held on September 10, 2024 is to prepare for the Pacific Council's September 2024 meeting agenda items. The advisory bodies are expected to primarily discuss groundfish-related matters during this webinar. As time allows, they may potentially discuss ecosystem, Pacific halibut, and administrative matters on the Pacific Council agenda as well.

Detailed agendas for the webinars will be available on the Pacific Council's website prior to the meetings. The GAP and GMT may also address other assignments relating to groundfish management. No management actions will be decided by the GMT and GAP.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 12, 2024.
Rey Israel Marquez,
Acting Deputy Director, Office of Sustainable Fisheries, National Marine Fisheries Service.

[FR Doc. 2024-18335 Filed 8-15-24; 8:45 am]

BILLING CODE 3510-22-P